SMALL BUSINESS ADMINISTRATION

[Disaster Declaration #20362 and #20363; Arkansas Disaster Number AR-20007]

Presidential Declaration Amendment of a Major Disaster for the State of Arkansas

AGENCY: Small Business Administration.

ACTION: Amendment 2.

SUMMARY: This is an amendment of the Presidential declaration of a major disaster for the State of Arkansas (FEMA-4788-DR), dated 05/30/2024.

Incident: Severe Storms, Straight-line Winds, Tornadoes, and Flooding.

Incident Period: 05/24/2024 through 05/27/2024.

DATES: Issued on 06/11/2024.

Physical Loan Application Deadline Date: 07/29/2024.

Economic Injury (EIDL) Loan Application Deadline Date: 03/03/2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for the State of Arkansas, dated 05/30/2024, is hereby amended to include the following areas as adversely affected by the disaster:

Primary Counties (Physical Damage and Economic Injury Loans):

Fulton, Greene, Madison, Randolph.

Contiguous Counties (Economic Injury Loans Only):

Arkansas: Clay, Craighead, Crawford, Franklin, Johnson, Lawrence, Sharp

Missouri: Dunklin, Howell, Oregon, Ripley

All other information in the original declaration remains unchanged.

(Catalog of Federal Domestic Assistance Number 59008)

Francisco Sánchez, Jr.,
Associate Administrator, Office of Disaster Recovery & Resilience.

[FR Doc. 2024-13585 Filed 6-20-24; 8:45 am]

BILLING CODE 8026-09-P